DEPARTMENT OF TRANSPORTATION

Research and Special Programs Administration

International Standards on the Transport of Dangerous Goods; Public Meetings

AGENCY: Research and Special Programs Administration (RSPA), Department of Transportation.

ACTION: Notice of public meeting.

SUMMARY: This notice is to advise interested persons that RSPA will conduct a public meeting to discuss the outcome of the twentieth session of the United Nation's Sub-Committee of Experts on the Transport of Dangerous Goods (UNSCOE) held December 5-11, 2001 in Geneva, Switzerland.

DATES: January 16, 2002, 9:30 a.m.-12 p.m., Room 3328.

ADDRESSES: The meeting will be held at DOT Headquarters, Nassif Building, Room 3328, 400 Seventh Street SW., Washington, DC 20590.

FOR FURTHER INFORMATION CONTACT: Bob Richard, International Standards Coordinator, Office of Hazardous Materials Safety, Department of Transportation, Washington, DC 20590; (202) 366-0656.

SUPPLEMENTARY INFORMATION: The primary purpose of the meeting will be to discuss outcomes of proposals presented to the twentieth session of UNSCOE. Topics to be covered during the public meeting will include (1) Criteria for Environmentally Hazardous Substances, (2) Intermodal requirements for the transport of solids in bulk containers, (3) Harmonized requirements for compressed gas cylinders, (4) Portable tank requirements, (5) Classification of individual substances, (6) Requirements for packagings used to transport hazardous materials, (7) Requirements for infectious substances, and (8) Hazard communication requirements.

The public is invited to attend without prior information.

Documents

Copies of documents for the UNSCOE meeting may be obtained by downloading hem from the United Nations Transport Division web site at http://www.unece.org/trans/main/dgdb/dgsubc/c3doc_2001.html. Information concerning UN dangerous goods meetings including agendas can be downloaded at http://www.unece.org/trans/main/dgdb/dgsubc/c3.html. These sites may also be accessed through the international section of RSPA's Hazardous Materials Safety website at http://hazmat.dot.gov/intstandards.htm. RSPA's site provides information regarding the UNSCOE and the Globally Harmonized System of Classification and Labeling for Chemicals, a summary of decisions taken at the 21st session of the UN Committee of Experts, meeting dates and summary of the primary topics which are to be addressed in the 2001-2002 biennium.

Issued in Washington, DC, on December 21, 2001.
Robert A. McGuire,
Associate Administrator for Hazardous Materials Safety.

[FR Doc. 01-32011 Filed 12-27-01; 8:45 am]

BILLING CODE 4910-60-M